ENVIRONMENTAL PROTECTION AGENCY

[EPA-HQ-OPPT-2019-0075; FRL-9992-80]

Certain New Chemicals; Receipt and Status Information for June 2019

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 06/01/2019 to 06/30/2019.

DATES: Comments identified by the specific case number provided in this document must be received on or before September 11, 2019.

ADDRESSES: Submit your comments, identified by docket identification (ID) number EPA-HQ-OPPT-2019-0075, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: For technical information contact: Jim Rahai, Information Management Division (MC 7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 06/01/2019 to 06/30/2019. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved * From 06/01/2019 to 06/30/2019
Case No. | Version | Received date | Manufacturer | Use | Chemical substance
SN-19-0004A | 4 | 06/04/2019 | CBI | (S) A lubricating agent used in the production of automotive disc brakes | (G) Pitch coke.
SN-19-0005A | 2 | 05/28/2019 | Molecular Rebar Design | (G) Conductive ink | (S) Functionalized multiwall carbon nanotubes.
P-16-0442A | 4 | 06/26/2019 | CBI | (G) Polymer for coatings | (G) Carboxylic acids, unsaturated, polymers with disubstituted amine, alkanediol, substituted alkylpropanoic acid, alkanedioic acid and substituted isocyanatocycloalkane, compds with alkylamine.
P-16-0443A | 4 | 06/26/2019 | CBI | (G) Polymer for coatings | (G) Carboxylic acids, unsaturated, hydrogenated polymers with disubstituted amine, alkanediol, substituted alkylpropanoic acid, alkanedioic acid and substituted isocyanatocycloalkane, compds with alkylamine.
P-16-0444A | 4 | 06/26/2019 | CBI | (G) Polymer for coatings | (G) Amine salted polyurethane.
P-16-0445A | 4 | 06/26/2019 | CBI | (G) Polymer for coatings | (G) Carboxylic acids, unsaturated, hydrogenated polymers with substituted alkanediamine, alkanediol, substituted alkylpropanoic acid, alkanedioic acid and substituted isocyanatocycloalkane, compds with alkylamine.
P-17-0007A | 5 | 06/13/2019 | CBI | (S) Intermediate | (G) Dialkyl 7,10-dioxa, dithiahexadeca diene.
P-17-0239A | 6 | 06/11/2019 | CBI | (G) Adhesive for open non-descriptive use | (G) Substituted carboxylic acid, polymer with 2,4-diisocyanato-1-methylbenzene, hexanedioic acid, alpha-hydro-omega-hydroxypoly[oxy(methyl-1,2-ethanediyl)], 1,1′-methylenebis[4-isocyanatobenzene], 2,2′-oxybis[ethanol], 1,1′-oxybis[2-propanol] and 1,2-propanediol.
P-17-0299A | 3 | 06/06/2019 | CBI | (G) Paint additive | (G) 2-Propenoic acid, alkyl -, polymers with alkyl acrylate and polyethylene glycol methacrylate alkyl ether.
P-17-0345A | 2 | 06/07/2019 | CBI | (G) Resin intermediate | (G) Polyurethane, methacrylate blocked.
P-17-0389A | 6 | 06/24/2019 | CBI | (G) Polymer precursor | (G) Alkyl oil, polymer with 1,4-cyclohexanedimethanol, dehydrated Alkyl oil, hydrogentated rosin, phthalic anhydride and trimethylolpropane.
P-18-0009A | 5 | 06/24/2019 | CBI | (G) Lubricant additive | (G) Phosphonic acid, dimethyl ester, polymer with alkyl diols.
P-18-0044A | 3 | 06/24/2019 | CBI | (G) Intermediate species | (G) Fatty acids.
P-18-0045A | 3 | 06/24/2019 | CBI | (G) Application coating | (G) Fatty acids, alkyl esters.
P-18-0050 | 1 | 11/16/2017 | CBI | (G) Raw material in industrial coatings | (G) Alkane, diisocyanato-, homopolymer, alkyl dihydrogen phosphate- and polyalkylene glycol mono-alkyl ether-.
P-18-0061A | 3 | 06/24/2019 | CBI | (G) Industrial coating hardners | (G) Alkyl methacrylates, polymer with alkyl acrylates, styrene hydroxyalkyl acrylates, novalac epoxy and epoxy modified acrylic salt with organic amines.
P-18-0078A | 4 | 06/26/2019 | CBI | (G) Paint | (G) 2-Alkenoic acid, 2-alkyl-, 2-alkyl ester, polymer with alkyl 2-alkenoate, 2-substitutedalkyl 2-alkenoate and 2-substitutedalkyl 2-alkyl-2-alkenoate, tert alkylperoxoate initiated.
P-18-0122A | 6 | 06/04/2019 | Polymer Ventures, Inc | (G) Paper additive | (G) Alkylamide, polymer with alkylamine, formaldehyde, and polycyanamide, alkyl acid salt.
P-18-0125A | 2 | 06/18/2019 | NOLTEX L.L.C | (G) Reagent in coating material | (G) Oxoalkylcarboxylic acid, sodium salt.
P-18-0197A | 2 | 06/21/2019 | CBI | (G) Polymer composite additive | (G) Metal, alkylcarboxylate oxo complexes.
P-18-0207A | 3 | 06/21/2019 | CBI | (G) Polymer composite additive | (G) Metal, oxo alkylcarboxylate complexes.
P-18-0239A | 3 | 06/26/2019 | CBI | (G) Reactant in coating | (G) N-alkyl propanamide.
P-18-0240A | 3 | 06/26/2019 | CBI | (G) Reactant in coating | (G) N-alkyl acetamide.
P-18-0260A | 4 | 06/04/2019 | Allnex USA Inc | (S) Binder for wood stains | (G) Fatty acids, polymers with alkanoic acid and substituted carbomonocycle, peroxide-initiated, polymers with alkanoic acid esters and substituted carbomonocycle, ammonium salts.
P-18-0263A | 2 | 06/17/2019 | CBI | (G) Solution additive | (G) Mixed alkyl esters-, polymer with N1-(2-aminoethyl)- l,2-ethanediamine, aziridine, N-acetyl derivs., acetates (salts).
P-18-0263A | 3 | 06/26/2019 | CBI | (G) Solution additive | (G) Mixed alkyl esters-, polymer with N1-(2-aminoethyl)- l,2-ethanediamine, aziridine, N-acetyl derivs., acetates (salts).
P-18-0274A | 6 | 06/19/2019 | CBI | (S) Chemical Intermediate. (G) Additive | (G) Heterocycle fluoroalkyl sulfonyl.
P-18-0295 | 1 | 08/30/2018 | CBI | (S) Use as an ingredient in the manufacture of consumer cleaning products. In these products, the notified chemical is not destroyed nor further reacted. (S) Use as monomer in the manufacture of resins for use in paint and coating products. Notified substance will not be present in the cured coating. (S) Use as a monomer in the manufacture of plastic products. In this process the notified substance is reacted with one or more other compounds to become part of a polymer. Depending on the reactants involved, the final polymer can be a resin used to make molded plastic products or the final polymer can be a shorter polymer used as a plasticizer | (S) 1,3-Butanediol, (3R)-.
P-18-0323A | 3 | 06/18/2019 | Kuraray America, Inc | (G) Raw material for polymer manufacturing | (S) 2-Propenoic acid, 2-methyl-, 3-methyl-3-buten-1-yl ester.
P-18-0372A | 4 | 06/11/2019 | Hexion Inc | (G) Polyol. (S) Reactive modifier for Carbon, Fiber bonding, Friction, Coated abrasives, Glass Inserts, Refractory, and Bonded abrasives. (S) Reactive polyol for Sealants, Adhesives, 1 part coatings, 2 part coatings, and composites | (G) Formaldehyde, polymer with phenol and heteroatom-substituted heteromonocycle, reaction products with 1,3-dioxolan-2-one and 4-methyl-1,3-dioxolan-2-one.
P-18-0372A | 3 | 05/31/2019 | Hexion Inc | (G) Polyol. (S) Reactive modifier for Carbon, Fiber bonding, Friction, Coated abrasives, Glass Inserts, Refractory, and Bonded abrasives. (S) Reactive polyol for Sealants, Adhesives, 1 part coatings, 2 part coatings, and composites | (G) Formaldehyde, polymer with phenol and heteroatom-substituted heteromonocycle, reaction products with 1,3-dioxolan-2-one and 4-methyl-1,3-dioxolan-2-one.
P-18-0373A | 4 | 06/11/2019 | Hexion Inc | (G) Polyol | (G) Formaldehyde, polymer with 2-methyloxirane, oxirane, phenol and heteroatom-substituted heteromonocycle.
P-18-0373A | 3 | 05/31/2019 | Hexion Inc | (G) Polyol | (G) Formaldehyde, polymer with 2-methyloxirane, oxirane, phenol and heteroatom-substituted heteromonocycle.
P-19-0021A | 3 | 06/26/2019 | CBI | (G) Pigment ink | (G) Hydroxyalkyl carboxylic acid, polymer with alkylamine, alkylene carbonate, alkanediol, isocyanate, compd. with alkylamine.
P-19-0022A | 3 | 06/26/2019 | CBI | (G) Pigment ink | (G) Hydroxyalkyl carboxylic acid, polymer with alkylamine, alkyl carbonate, alkanediol, isocyanate, compd. with alkylamine.
P-19-0024A | 4 | 06/12/2019 | Sales and Distribution Services, Inc | (S) Hot Mix Asphalt Application: The PMN compound will be used as asphalt additive for hot mix (HMA) as well as cold mix (CMA) asphalt applications. The PMN substance chemically reacts with the surface of the aggregate and changes surface characteristics of aggregate from hydrophilic to hydrophobic. This change provides stronger bonding between asphalt and aggregates and reduces the potential for stripping away asphalt binder from an aggregate due to water. (S) Waterproofing Application: The PMN substance is expected to be used in waterproofing of building materials, including cementitious material, masonry, concrete, plaster, bricks, etc. It is initially intended to be used at a maximum of 5 sites by trained commercial applicators. The PMN substance is modification of a quaternary silane compound by a hydrolysis reaction with other silanes to make it an oligomeric compound. These quaternary silane products have been manufactured and marketed for waterproofing uses for over 35 years. The solution of PMN substance in water is applied as a waterproofing sealer for building materials by spray application. (S) Asphalt Emulsion Application: The PMN substance is water soluble and can be used as an asphalt emulsion in road construction. This additive provides better bonding with ground surface, quick drying and reduced tire pickup of the asphalt emulsion by application equipment | (S) 1-Octadecanaminium, N,N-dimethyl-N-[3-(trimethoxysilyl)propyl]-, chloride (1:1), reaction products with water, Trimethoxy(propyl) silane, Trimethoxy(methyl)silane, Tetraethyl orthosilicate and ethane-1,2-diol.
P-19-0031A | 8 | 06/19/2019 | CBI | (S) Curing agent for epoxy coating systems | (G) Phenol, 4,4′-(1-methylethylidene)bis-, polymer with formaldehyde, 2-(chloromethyl)oxirane, alpha-hydro-omega-hydroxypoly(oxy-1,2-ethanediyl), and polyamines.
P-19-0051A | 5 | 06/21/2019 | CBI | (G) UV curable inks | (G) 1,3-Propanediamine, N1,N1-dimethyl-, polymers with alkylene glycol ether with alkyltriol (3:1) mixed acrylates and adipates, and alkylene glycol monoacrylate ether with alkyltriol (3:1).
P-19-0053A | 5 | 06/25/2019 | Wacker Chemical Corporation | (S) Used as a surface treatment, sealant, caulk, and coating for mineral building materials such as concrete, brick, limestone, and plaster, as well as on wood, metal and other substrates. Formulations containing the cross-linker provide release and anti-graffiti properties, water repellency, weather proofing, and improved bonding in adhesive/sealant applications. The new substance is a moisture curing cross-linking agent which binds/joins polymers together when cured. Ethanol is released during cure, and once the cure reaction is complete, the product will remain bound in the cured polymer matrix | (S) 1-Butanamine, N-butyl-N-[(triethoxysilyl)methyl]-.
P-19-0071A | 3 | 06/11/2019 | CBI | (G) Physical property modifier for polymers | (G) Trimethylolpropane, alkenoic acid, triester.
P-19-0075A | 3 | 05/30/2019 | Allnex USA Inc | (S) The PMN substance is an intermediate incorporated as a component in VIACRYL SC 6841 | (G) Alkenoic acid, alkyl-, (alkylamino)alkyl ester, polymer with alkyl substituted carbomonocycle, substituted-[alkanenitrile]-initiated, formates.
P-19-0082A | 3 | 06/20/2019 | Bedoukian Research Inc | (S) Fragrance uses per FFDCA: fine fragrance, creams, lotions, etc., Fragrance uses per TSCA: scented papers, candles, detergents, cleaners, etc | (S) Heptanal, 6-hydroxy-2,6-dimethyl-.
P-19-0086A | 3 | 05/31/2019 | CBI | (G) Monitor oil and gas well performance | (G) Halogenated sodium alkylbenzoate.
P-19-0087A | 3 | 05/31/2019 | CBI | (G) Monitor oil and gas well performance | (G) Halogenated sodium alkylbenzoate.
P-19-0089A | 5 | 06/04/2019 | CBI | (G) Well performance tracer | (G) Halogenated sodium alkylbenzoate.
P-19-0090A | 3 | 06/04/2019 | CBI | (G) Well performance tracer | (G) Halogenated sodium benzoate.
P-19-0091A | 3 | 06/04/2019 | CBI | (G) Well performance tracer | (G) Halogenated alkylbenzoic acid.
P-19-0092A | 2 | 06/04/2019 | CBI | (G) Tracer of well performance | (G) Halogenated alkylbenzoic acid.
P-19-0093A | 3 | 06/04/2019 | CBI | (G) Tracer for well performance | (G) Halogenated benzoic acid.
P-19-0095 | 3 | 06/04/2019 | CBI | (G) Consumer Disposables, Polymer Sheet, and Durable Goods | (G) Poly hydroxy alkanoate.
P-19-0096 | 1 | 05/31/2019 | CBI | (G) Additive for plastics industry | (G) Benzofuranone, bis(branched alkyl)-[dialkyl[tetrakis(branched alkyl)-alkyl-dibenzo-substituted phosphite-yl] phenyl]-.
P-19-0097 | 3 | 06/10/2019 | CBI | (G) Well performance monitor | (G) Halogenated alkylbenzoic acid, ethyl ester.
P-19-0098 | 1 | 06/04/2019 | Clariant Corporation | (S) Flame retardant additive for intumescent coatings | (G) Phosphoric acid, polymer with (hydroxyalkyl)-alkanediol and alkanediol.
P-19-0100 | 5 | 06/14/2019 | CBI | (G) Well performance monitor | (G) Halogenated alkylbenzoic acid, ethyl ester.
P-19-0101 | 4 | 06/14/2019 | CBI | (G) Monitor well performance | (G) Halogenated alkylbenzoic acid, ethyl ester.
P-19-0102 | 3 | 06/14/2019 | CBI | (G) Well performance monitor | (G) Halogenated alkylbenzoic acid, ethyl ester.
P-19-0103 | 2 | 06/14/2019 | CBI | (G) Well performance monitor | (G) Halogenated alkyl benzoic acid.
P-19-0104 | 4 | 06/14/2019 | CBI | (G) Well performance monitor | (G) Halogenated alkylbenzoic acid, ethyl ester.
P-19-0105 | 3 | 06/14/2019 | CBI | (G) Well performance monitor | (G) Halogenated benzoic acid, ethyl ester.
P-19-0106 | 3 | 06/14/2019 | CBI | (G) Well performance monitor | (G) Halogenated alkylbenzoic acid, ethyl ester.
P-19-0107 | 3 | 06/14/2019 | CBI | (G) Well performance monitor | (G) Halogenated alkylbenzoic acid, ethyl ester.
P-19-0108 | 3 | 06/14/2019 | CBI | (G) Well performance monitor | (G) Halogenated alkylbenzoic acid, ethyl ester.
P-19-0109 | 1 | 06/07/2019 | Arch Chemicals, Inc | (S) Chemical is used as a component of a hoof cleaning formulation to improve the wettability of the overall cleaning solution on the hoof | (S) Copper ethanolamine complex, mixed.
P-19-0110 | 3 | 06/14/2019 | CBI | (G) Well performance monitor | (G) Halogenated benzoic acid, ethyl ester.
P-19-0112 | 1 | 06/12/2019 | Shin-ETSU Microsi | (G) Contained use for microlithography for electronic device manufacturing | (G) Substituted heterocyclic onium compound, salt with 1-(difluorosulfomethyl)-2,2,2-trifluoroethyl 3-[(2-methyl-1-oxo-2-propen-1-yl)oxy]tricyclo[3.3.1.13,7]decane-1-carboxylate (1:1), polymer with 3-etheylphenol, 1-(1-methylethyl)cyclopentyl 2-methyl-2-propenoate and 1-(7-oxabicyclo[2.2.1]hept-2-yl)cyclopentyl 2-methyl-2-propenoate, di-Me 2,2′-(1,2-diazenediyl)bis[2-methylpropenoate]-initiated.
P-19-0113 | 2 | 06/13/2019 | CBI | (G) Flow cell additive | (G) Metal oxide-chloro.
P-19-0114 | 1 | 06/17/2019 | Shin-ETSU Microsi | (G) Contained use for microlithography for electronic device manufacturing | (G) Sulfonium, triphenyl-, trifluoro-hydroxy-(triheterosubstitutedalkyl)alkanoate (1:1).
P-19-0115 | 1 | 06/17/2019 | Tokyo Ohka Kogyo America, Inc | (G) An ingredient used in the manufacture of photoresist | (G) Sulfonium, bis(dihalocarbomonocycle) carbomonocycle, substituted carbomonocyclic ester.
P-19-0117 | 2 | 06/21/2019 | CBI | (G) Additive | (G) Polycyclic amine, reaction products with polyalkylalkene, polymers.
P-19-0118 | 1 | 06/21/2019 | CBI | (G) Component of lubricant | (G) Substituted polyalkylenepoly, reaction products with alkene polymer.
P-19-0119 | 1 | 06/24/2019 | Zschimmer & Schwarz | (S) Foaming additive used in building/construction, exposure would only occur during loading of finished product. Product application is used in a closed system with very low possibility for exposure. To be used on construction sites | (S) Poly(oxy-1,2-ethanediyl), alpha-sulfo-omega-hydroxy-, C9-11-branched alkyl ethers, sodium salts.
P-19-0120 | 1 | 06/25/2019 | CBI | (G) Component of ink | (G) Alkenoic acid, polymer with alkanediyl bis substituted alkylene bis heteromonocycle, substituted carbomonocycle and (alkylalkenyl) carbomonocycle, alkali metal salt.
* The term `Approved' indicates that a submission has passed a quick initial screen ensuring all required information and documents have been provided with the submission prior to the start of the 90 day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved * From 06/01/2019 to 06/30/2019
Case No. | Received date | Commencement date | If amendment, type of amendment | Chemical substance
J-18-0002 | 6/28/2019 | 6/19/2018 | N | (G) Biofuel producing Saccharomyces cerevisiae modified, genetically stable.
J-18-0003 | 6/28/2019 | 6/24/2018 | N | (G) Biofuel producing Saccharomyces cerevisiae modified, genetically stable.
J-19-0011 | 6/3/2019 | 6/2/2019 | N | (G) Genetically modified microorganism.
P-01-0767 | 6/10/2019 | 5/10/2019 | N | (S) 2-Propenoic acid, 2-methyl-, polymer with butyl 2-propenoate, 2-hydroxyethyl 2-methyl-2-propenoate, N- (hydroxymethyl)-2-propenamide, 2-methyl-2-propenamide and 2-propenenitrile, ammonium salt.
P-11-0080 | 6/7/2019 | 5/22/2019 | N | (G) Polyether, .alpha.-hydro-.omega.-hydroxy-, polymer with .alpha.-hydro-.omega.-hydroxypoly[oxy(methyl-1,2-ethanediyl)] ether with alkanepolyol, and 1,1′-methylenebis[4-isocyanatocyclohexane], hydroxyalkyl acrylates-blocked.
P-14-0742 | 6/13/2019 | 6/11/2019 | N | (S) Isocyanic acid, polymethylenepolyphenylene ester, polymer with 1,2-propanediol, 2-(2-butoxyethoxy)ethanol- and n,n-dibutyl-2-hydroxyacetamide-blocked.
P-16-0375 | 6/10/2019 | 5/26/2019 | N | (G) Alkyl methacrylates, polymer with olefines.
P-16-0400 | 6/18/2019 | 6/3/2019 | N | (S) Alkanes, C11-16, branched and linear.
P-16-0532A | 6/20/2019 | 4/17/2019 | Y | (G) Oxo heteromonocycle.
P-17-0152 | 6/28/2019 | 6/4/2019 | N | (G) Poly(alkyl-oxo-2-propen-1-yl)ester with alkaneaminium trialkyl chloride and alkoxy-poly(oxy-alkanediyl).
P-17-0152 | 6/28/2019 | 6/4/2019 | N | (G) Alkylaminium-trialkyl-2-[(2-methyl-1-oxo-2-propen-1-yl)oxy]-, halide (1:1), polymer with alpha-(2-methyl-1-oxo-2-propen-1-yl)- omega-alkoxypoly(oxy-1,2-alkanediyl).
P-17-0253 | 6/10/2019 | 6/7/2019 | N | (G) Oxirane, 2-methyl-, polymer with oxirane, methyl 2-(substituted carbomonocycle isoquinolin-2(3H)-yl) propyl ether.
P-18-0044A | 6/13/2019 | 6/13/2018 | Y | (G) Fatty acids.
P-18-0068A | 6/28/2019 | 12/21/2018 | Y | (G) Metal, alkylcarboxylate oxo complexes.
P-18-0137 | 6/24/2019 | 6/14/2019 | N | (G) Alkylsilsesquioxane, ethoxy-terminated.
P-18-0186 | 5/30/2019 | 5/14/2019 | N | (G) Polyolefin ester.
P-18-0261A | 6/28/2019 | 12/5/2018 | Y | (G) Metal, alkylcarboxylate oxo complexes.
P-18-0379A | 6/3/2019 | 4/9/2019 | Y | (G) Cashew, nutshell liq., polymer with bisphenol A, epichlorohydrin, amines, formaldehyde and glycol.
* The term `Approved' indicates that a submission has passed a quick initial screen ensuring all required information and documents have been provided with the submission.

In Table III of this unit, EPA provides the following information (to the extent such information is not subject to a CBI claim) on the test information that has been received during this time period: The EPA case number assigned to the test information; the date the test information was received by EPA, the type of test information submitted, and chemical substance identity.

Table III—Test Information Received From 06/01/2019 to 06/30/2019
Case No. | Received date | Type of test information | Chemical substance
P-16-0150 | 6/10/2019 | A 2-Week Toxicity Study of [claimed CBI] by Whole-Body Inhalation in CD-1 Mice (OECD 412); and A 2-Week Toxicity Study of [claimed CBI] by Whole-Body Inhalation in Rats (OECD 412) | (G) Chlorofluorocarbon.
P-16-0543 | 6/21/2019 | Exposure Monitoring Report | (G) Halogenophosphoric acid metal salt.
P-17-0339-0342 | 6/26/2019 | Supplemental Phase Transition | (S) Poly(oxy-1,2-ethanediyl), a-(2-butyloctyl)-w-hydroxy-.
P-18-0141 | 6/5/2019 | Acute Inhalation Toxicity with Substance 2 in the Rat (Nose Only) (Acute Toxic Class Method) | (G) Ethyl modified lactam.
P-18-0263 | 6/27/2019 | GPC Report | (G) Mixed alkyl esters-, polymer with N1-(2-aminoethyl)- l,2-ethanediamine, aziridine, N-acetyl derivs., acetates (salts),
P-18-0352 | 6/17/2019 | Growth Inhibition of [claimed CBI] for Green Algae (Raphidocelis subcapitata) (OECD 201), Static Acute Toxicity of [claimed CBI] to Daphnia Magna (OECD 202), Determination of the Ready Biodegradability of [claimed CBI] (OECD 301D) | (G) Poly(hetero(alkyl-1,2-alkenyl)], alpha-[[[3-(1-heteromonocycle)alkyl)substituted heteroatom]heteroatom-substituted alkyl]]-omega-[[[[3-(1-heteromonocycle)alkyl]]substituted heteroatom] heteroatom-substituted alkyl]]heteroatom]-.
P-19-0073 | 6/13/2019 | Acute Toxicity to Fish (OECD 203), Local Lymph Node Assay in Mice (OECD 442B) | (G) Propoxylated, ethoxylated alkoxyalkyl ether.

If you are interested in information that is not included in these tables, you may contact EPA's technical information contact or general information contact as described under FOR FURTHER INFORMATION CONTACT to access additional non-CBI information that may be available.

Authority: 15 U.S.C. 2601 et seq.

Dated: July 30, 2019.
Pamela Myrick,
Director, Information Management Division, Office of Pollution Prevention and Toxics.

[FR Doc. 2019-17149 Filed 8-9-19; 8:45 am]

BILLING CODE 6560-50-P